DEPARTMENT OF COMMERCE

National Oceanic and Atmospheric Administration

50 CFR Part 660

RIN 0648-BI89

Magnuson-Stevens Act Provisions; Fisheries Off West Coast States; Pacific Coast Groundfish Fishery; Pacific Coast Groundfish Fishery Management Plan; Amendment 28

AGENCY: National Marine Fisheries Service (NMFS), National Oceanic and Atmospheric Administration (NOAA), Commerce.

ACTION: Notice of availability of proposed FMP Amendment; request for comments.

SUMMARY: NMFS announces that the Pacific Fishery Management Council submitted Amendment 28 to the Pacific Coast Groundfish Fishery Management Plan to the Secretary of Commerce for review. If approved, Amendment 28 would establish new and revised areas closed to bottom trawling to conserve and protect Pacific coast groundfish essential fish habitat, and would re-open areas that were closed to bottom trawling to rebuild previously-overfished groundfish stocks. Combined, these two changes are anticipated to increase protections for groundfish essential fish habitat and provide additional flexibility to participants fishing with bottom trawl gear in the groundfish trawl rationalization program. Amendment 28 would also close deep-water areas off the coast of California to bottom contacting gear to protect deep-water habitats, including deep-sea corals using discretionary fishery management plan provisions in the Magnuson-Stevens Fishery Conservation and Management Act.

DATES: Comments on Amendment 28 must be received on or before August 10, 2019.

ADDRESSES: You may submit comments on this document, identified by NOAA-NMFS-2019-0039, by any of the following methods:

• Electronic Submission: Submit all electronic public comments via the Federal e-Rulemaking Portal. Go to www.regulations.gov/#!docketDetail;D=NOAA-NMFS-2019-0039, click the “Comment Now!” icon, complete the required fields, and enter or attach your comments.

• Mail: Submit written comments to Barry A. Thom., Regional Administrator, 7600 Sand Point Way NE, Seattle, WA, 98115.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous).

FMP Amendment 28, background information and documents are available at the Council's website at http://www.pcouncil.org/groundfish/fishery-management-plan/groundfish-amendments-in-development/. Information relevant to Amendment 28, which includes a draft Environmental Impact Statement, a regulatory impact review, and a Regulatory Flexibility Act certification are available for public review during business hours at the NMFS West Coast Regional Office at 7600 Sand Point Way NE, Seattle, WA 98115, or by requesting them via phone or the email address listed in the FOR FURTHER INFORMATION CONTACT section. Additional background documents are available at the NMFS West Coast Region website at http://www.westcoast.fisheries.noaa.gov/fisheries/groundfish/index.html.

FOR FURTHER INFORMATION CONTACT: Gretchen Hanshew, phone: 206-526-6147, or email: Gretchen.Hanshew@noaa.gov.

SUPPLEMENTARY INFORMATION: NMFS manages the groundfish fisheries in the exclusive economic zone off Washington, Oregon, and California under the Pacific Coast Groundfish Fishery Management Plan (FMP). The Council prepared and NMFS implemented the FMP under the authority of the Magnuson-Stevens Fishery Conservation and Management Act (Magnuson-Stevens Act), 16 U.S.C. 1801 et seq. and by regulations at 50 CFR parts 600 and 660. The Magnuson-Stevens Act requires that each regional fishery management council submit any FMP or plan amendment it prepares to NMFS for review and approval, disapproval, or partial approval by the Secretary of Commerce. The Magnuson-Stevens Act also requires that NMFS, upon receiving an FMP or amendment, immediately publish a notice that the FMP or amendment is available for public review and comment. This notice announces that proposed Amendment 28 to the FMP is available for public review and comment. NMFS will consider the public comments received during the comment period described above in determining whether to approve, partially approve, or disapprove Amendment 28 to the FMP.

Amendment 28 would: (1) Revise, or create new area closures to conserve and protect essential fish habitat (EFH) from the adverse effects of bottom trawl fishing activities; (2) re-open historically important fishing grounds to bottom trawl gear to provide additional flexibility in harvest strategies in the Trawl Rationalization Program; (3) close to fishing with bottom contact gear the area of the exclusive economic zone (EEZ) seaward of 3,500 meters under the Magnuson-Stevens Act discretionary authority to protect deep-water habitats, including deep-sea corals; and (4) update information in the FMP regarding designated EFH and the EFH review process.

Using the best scientific information available from the periodic review of groundfish EFH, the Council recommended changes to spatial management measures for vessels fishing with bottom trawl gear or bottom contact gear; primarily changes to EFH conservation area (EFHCA) boundaries. The Council recommended revising boundaries of some existing EFHCAs and establishing new EFHCAs in some areas. The new suite of EFHCAs are anticipated to minimize the adverse effects of fishing to groundfish EFH. The Council also recommended reopening the trawl rockfish conservation area (trawl RCA) off Oregon and California. These historically important fishing areas have been closed since 2002 to rebuild overfished groundfish species during a period when the fishery was primarily managed using trip limits. In recent years, NMFS has declared as rebuilt the overfished groundfish stocks most commonly found at depths within the trawl RCA. In addition, the trawl rationalization program has increased incentives for fishermen to use precaution in areas where they may encounter rebuilding stocks and to generally reduce discards. Reopening the trawl RCA off Oregon and California is anticipated to increase the flexibility to vessels fishing with bottom trawl gear so they can harvest a higher proportion of their groundfish quotas. The combination of new and revised EFHCAs and the reopening of the trawl RCA is anticipated to minimize adverse impacts to groundfish EFH from the effects of fishing, while providing participants in the trawl rationalization program additional flexibility for efficient and sustainable harvest of groundfish species with bottom trawl gear.

The Council also considered new information regarding the deep-water habitats, including the presence of deep-sea corals in waters greater than 3,500 meters. While little to no fishing occurs with gears that are designed to make contact with the bottom in this area, permanent damage to these habitats could occur from future prospective fishing with bottom contact gear. These depths are deeper than designated groundfish EFH. Therefore, Amendment 28 would use the discretionary authority provisions in the Magnuson-Stevens Act to close the EEZ seaward of 3,500 meters to bottom contact gear to protect deep-water habitats, including deep-sea corals that occur there.

The Council also recommended changes to the FMP that do not have corresponding regulation changes or on the water effects. The Council recommended revising the FMP by updating the description of fishing effects on designated EFH from fisheries that are not managed under the Magnuson-Stevens Act, the purpose of the periodic EFH review and the summaries for research and data needs. The Council also recommended revising the FMP by updating the groundfish life history and the text description of designated EFH, the effects of fishing and non-fishing activities on designated EFH, and latitude and longitude coordinates and maps of EFHCAs. The Council also recommended archiving portions of EFH-related appendices that no longer reflected the best scientific information available.

NMFS welcomes comments on the proposed FMP amendment through the end of the comment period. A proposed rule to implement Amendment 28 has been submitted for Secretarial review and approval. NMFS expects to publish and request public review and comment on proposed regulations to implement Amendment 28 in the near future. For public comments on the proposed rule to be considered in the approval or disapproval decision on Amendment 28, those comments must be received by the end of the comment period on the amendment. All comments received by the end of the comment period for the amendment, whether specifically directed to the amendment or the proposed rule, will be considered in the approval/disapproval decision.

Authority: 16 U.S.C. 1801 et seq.

Dated: June 5, 2019.
Jennifer M. Wallace,
Acting Director, Office of Sustainable Fisheries, National Marine Fisheries Service.

[FR Doc. 2019-12237 Filed 6-10-19; 8:45 am]

BILLING CODE 3510-22-P